NUCLEAR REGULATORY COMMISSION

[Docket No. 72-1]

General Electric Company, Morris Operation; Notice of Docketing of the Materials License SNM-2500 Amendment Application for the Morris Operation Independent Spent Fuel Storage Installation

AGENCY: Nuclear Regulatory Commission.

ACTION: License amendment.

FOR FURTHER INFORMATION CONTACT: Christopher M. Regan, Senior Project Manager, Spent Fuel Project Office, Office of Nuclear Material Safety and Safeguards, U.S. Nuclear Regulatory Commission, Washington, DC 20555. Telephone: (301) 415-1179; fax number: (301) 415-1179; e-mail: cmr1@nrc.gov.

SUPPLEMENTARY INFORMATION: By letter dated July 30, 2004, as supplemented August 13, 2004, General Electric Company submitted an application to the U.S. Nuclear Regulatory Commission (NRC or the Commission), in accordance with 10 CFR part 72, requesting the amendment of the General Electric—Morris Operation (GEMO) independent spent fuel storage installation (ISFSI) Materials License SNM-2500 and the associated Technical Specifications (TS) for the GEMO ISFSI located in Grundy County, Illinois. The amendment application requests changes to the GEMO Consolidated Safety Analysis Report to reflect the current condition of the fuel stored and only that equipment necessary for its safe storage. The major changes proposed include revisions to information regarding the spent fuel inventory, deletion of the requirement for ventilation exhaust vacuum, deletion of the requirement to have certain instrumentation operative for equipment that is no longer in service, a change in the methods to verify pool water quality, revision to the description of the company organization, and removal of “receipt” from the license which effectively will not permit the GEMO facility to accept shipment of any additional spent fuel. Commensurate changes to the Technical Specifications to reflect these revisions are also proposed. This application supersedes in its entirety, General Electric's amendment 10 application dated April 30, 1998, and amendment 11 application dated August 13, 2001. Amendment requests 10 and 11 were withdrawn by GEMO by letter dated March 1, 2004. This application was docketed under 10 CFR part 72; the GEMO ISFSI Docket No. 72-1. The amendment of an ISFSI license is subject to the Commission's approval. The Director, Office of Nuclear Material Safety and Safeguards, or his designee, will determine if the amendment presents a genuine issue as to whether public health and safety will be significantly affected and may issue either a notice of a hearing or a notice of proposed action and opportunity for a hearing in accordance with 10 CFR 72.46(b)(1) or take immediate action on the amendment in accordance with 10 CFR 72.46(b)(2).

In accordance with 10 CFR 2.390 of NRC's “Rules of Practice,” final NRC records and documents regarding this proposed action, including the application for license amendment dated July 30, 2004, as supplemented August 13, 2004, and supporting documentation, are publically available in the records component of NRC's Agencywide Documents Access and Management System (ADAMS). These documents may be inspected at NRC's Public Electronic Reading Room at http://www.nrc.gov/reading-rm/adams.html under Accession Nos. ML042180412 and ML042250233. These documents may also be viewed electronically on the public computers located at the NRC's Public Document Room (PDR), O1F21, One White Flint North, 11555 Rockville Pike, Rockville, MD 20852. The PDR reproduction contractor will copy documents for a fee. Persons who do not have access to ADAMS or who encounter problems in accessing the documents located in ADAMS, should contact the NRC PDR Reference staff by telephone at 1-800-397-4209 or 301-415-4737, or by e-mail to pdr@nrc.gov.

Dated at Rockville, Maryland, this 28 day of September 2004.
For the Nuclear Regulatory Commission.
Christopher M. Regan,
Senior Project Manager, Spent Fuel Project Office, Office of Nuclear Material Safety and Safeguards.

[FR Doc. 04-22313 Filed 10-4-04; 8:45 am]

BILLING CODE 7590-01-P